DEPARTMENT OF DEFENSE

Department of the Navy

[Docket ID: USN-2022-HQ-0002]

Proposed Collection; Comment Request

AGENCY: Department of the Navy, Department of Defense (DoD).

ACTION: 60-Day information collection notice.

SUMMARY: In compliance with the Paperwork Reduction Act of 1995, the United States Marine Corps (USMC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 28, 2022.

ADDRESSES: You may submit comments, identified by docket number and title, by any of the following methods:

Federal eRulemaking Portal: https://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Marine and Family Programs, Compliance (MFI), 3280 Russell Road, Quantico, VA 22134, ATTN: Mr. Theodore McCann, or call 703-784-1333.

SUPPLEMENTARY INFORMATION:

Title; Associated Form; and OMB Number: United States Marine Corps Child and Youth Programs; NAVMC Forms 1750/7, 1750/10, 1750/11; OMB Control Number 0703-UCYP.

Needs and Uses: The USMC Child and Youth Programs information collection is needed to obtain authorization for Child and Youth Programs personnel to administer non-medicated topical products, maintain the medication administration record, and controlled medication administration record and daily log for USMC Child and Youth Programs participants.

Affected Public: Individuals and households.

Annual Burden Hours: 2,667.

Number of Respondents: 16,000.

Responses per Respondent: 1.

Annual Responses: 16,000.

Average Burden per Response: 10 minutes.

Frequency: On occasion.

Dated: January 21, 2022.
Aaron T. Siegel,
Alternate OSD Federal Register Liaison Officer, Department of Defense.

[FR Doc. 2022-01503 Filed 1-25-22; 8:45 am]

BILLING CODE 5001-06-P